DEPARTMENT OF THE INTERIOR

National Park Service

Notice of Intent to Repatriate Cultural Items: U.S. Department of Defense, Army Corps of Engineers, Portland District, Portland, OR and University of Oregon Museum of Natural and Cultural History, Eugene, OR

AGENCY: National Park Service, Interior.

ACTION: Notice.

Notice is here given in accordance with the Native American Graves Protection and Repatriation Act (NAGPRA), 25 U.S.C. 3005, of the intent to repatriate cultural items, for which the University of Oregon Museum of Natural and Cultural History, Eugene, OR, and U.S. Department of Defense, Army Corps of Engineers, Portland District, Portland, OR, have joint responsibility, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 1959, cultural items were removed from site 45-KL-18, also known as the Fountain Bar Site, Klickitat County, WA, during excavations conducted by the University of Oregon prior to construction of the John Day Dam. The cultural items were accessioned by the University of Oregon Museum in 1959. The 85 unassociated funerary objects are 2 projectile point fragments, 2 knife fragments, 2 preforms, 2 biface/uniface tools, 1 biface, 5 biface fragments, 8 unifaces, 2 scrapers, 1 graver, 3 hammerstones, 6 flaked cobbles, 32 unmodified flakes, 6 dentalia, 4 steatite beads, 3 oval blue glass beads, 1 blue faceted glass bead, 2 other beads, 2 strings of shell beads, and 1 vial of shell beads.

Some of the objects are listed as having been recovered from a designated “burial area” without reference to specific burials, while association of others with specific burials cannot be verified because of incomplete documentation, but are reasonably believed to be unassociated funerary objects. Site 45-KL-18 extends from the mouth of Rock Creek for more than 2 miles eastward along the now-inundated, north side shoreline of the Columbia River. The site is described as a severely-looted, vandalized and eroded lithic scatter and cemetery. Although no dates of occupation were obtained by the researchers, the burials and associated and unassociated funerary objects were characterized as prehistoric. The site burial pattern is consistent with customs of Columbia Plateau Native American groups. Excavation and museum documentation indicate that the cultural items are consistent with cultural items typically found in context with burials characteristic of the Mid-Columbia River Basin.

Oral histories and published ethnographic documentation indicate that site 45-KL-18 is located within the traditional territory of Sahaptin-speaking groups represented by the present-day Confederated Tribes of the Warm Springs Reservation of Oregon and Confederated Tribes and Bands of the Yakama Nation, Washington. Per the 1855 Treaty with the Tribes of Middle Oregon, the Confederated Tribes of the Warm Springs Reservation of Oregon signers were comprised of three Chinookan-speaking Wasco bands and four Sahaptin-speaking Warm Springs bands. The Uto-Aztecan-speaking Northern Paiutes, also part of the Confederated Tribes of the Warm Springs Reservation of Oregon, joined the confederation in the 1870s. The Wasco and Warm Springs bands traditionally occupied the south shore of the Columbia River and its tributaries from Cascade Locks to just east of the present-day city of Arlington, OR. The 14 Sahaptin, Salish and Chinookan-speaking tribes and bands of the Confederated Tribes and Bands of the Yakama Nation, Washington traditionally lived on the Washington side of the Columbia River between the eastern flanks of the Cascade Range and the lower reaches of the Yakima River drainage.

Officials of the U.S. Army Corps of Engineers, Portland District have determined that, pursuant to 25 U.S.C. 3001 (3)(B), the 85 cultural items described above are reasonably believed to have been placed with or near individual human remains at the time of death or later as part of the death rite or ceremony and are believed, by preponderance of the evidence, to have been removed from a specific burial site of a Native American individual. Officials of the U.S. Army Corps of Engineers, Portland District have also determined that, pursuant to 25 U.S.C. 3001 (2), there is a relationship of shared group identity that can be reasonably traced between the unassociated funerary objects and the Confederated Tribes of the Warm Springs Reservation of Oregon and/or Confederated Tribes and Bands of the Yakama Nation, Washington.

Representatives of any other Indian tribe that believes itself to be culturally affiliated with the unassociated funerary objects should contact Daniel Mulligan, NAGPRA Coordinator, Environmental Resources Branch, U.S. Army Corps of Engineers, Portland District, P.O. Box 2946, Portland, OR 97208-2946, telephone (503) 808-4768, before November 20, 2008. Repatriation of the unassociated funerary objects to the Confederated Tribes of the Warm Springs Reservation of Oregon and/or the Confederated Tribes and Bands of the Yakama Nation, Washington may proceed after that date if no additional claimants come forward.

The U.S. Army Corps of Engineers, Portland District is responsible for notifying the Confederated Tribes of the Warm Springs Reservation of Oregon and Confederated Tribes and Bands of the Yakama Nation, Washington that this notice has been published.

Dated: September 10, 2008.
Sherry Hutt,
Manager, National NAGPRA Program.

[FR Doc. E8-24969 Filed 10-20-08; 8:45 am]

BILLING CODE 4312-50-S